DEPARTMENT OF HEALTH AND HUMAN SERVICES

National Institutes of Health

National Eye Institute; Amended Notice of Meeting

Notice is hereby given of a change in the meeting of the National Advisory Eye Council, June 13, 2025, 8:30 a.m. to June 13, 2025, 5 p.m., National Eye Institute, 6700B Rockledge Drive, Bethesda, MD 20892 which was published in the Federal Register on March 31, 2025, 90 FR 14266.

This meeting is being amended to change the Contact Person from Kathleen C. Anderson to Hyo-Jung Anna Han. Dr. Han's contact information is as follows: Hyo-Jung Anna Han, Ph.D., Acting Director, Division of Extramural Activities, National Eye Institute, NIH, 6700B Rockledge Drive, Bethesda, MD 20892, anna.han@nih.gov, (301) 496-2234.

The timeframe for the meeting is also being amended. The open session will change from 8:30 a.m.-2:30 p.m. to 10:10 a.m.-1:15 p.m. The closed session will change from 2:40 p.m.-5 p.m. to 1:15 p.m.-3 p.m. The meeting format is changing from Hybrid to Virtual. The open session will be videocast and can be accessed from the NIH Videocasting and Podcasting website (https://videocast.nih.gov/watch=56697). The meeting is partially closed to the public.

Dated: May 13, 2025.
David W. Freeman,
Supervisory Program Analyst, Office of Federal Advisory Committee Policy.

[FR Doc. 2025-08828 Filed 5-16-25; 8:45 am]

BILLING CODE 4140-01-P